OVERSEAS PRIVATE INVESTMENT CORPORATION

Sunshine Notice—March 20, 2014 Board of Directors Meeting

TIME AND DATE: Thursday, March 20, 2014, 2 p.m. (OPEN Portion); 2:15 p.m. (Closed Portion).

PLACE: Offices of the Corporation, Twelfth Floor Board Room, 1100 New York Avenue NW., Washington, DC.

STATUS: Meeting open to the Public from 2 p.m. to 2:15 p.m.; Closed portion will commence at 2:15 p.m. (approx.).

MATTERS TO BE CONSIDERED:

1. President's Report

2. Tribute—Seth D. Harris

3. Tribute—Ambassador Miriam E. Sapiro

4. Tribute—Katherine M. Gehl

5. Audit Committee Nomination Approval

6. Minutes of the Open Session of the December 12, 2013 Board of Directors Meeting

FURTHER MATTERS TO BE CONSIDERED (Closed to the Public 2:15 p.m.):

1. Finance Project—Global

2. Finance Project—Global

3. Finance Project—Global

4. Insurance Project—Sub-Saharan Africa

5. Finance Project—Israel

6. Amendment to Finance Project Resolution—Afghanistan

7. Amendment to Finance Project Resolution—Afghanistan

8. Finance Project—Nigeria and other OPIC-eligible countries in Sub-Saharan Africa

9. Minutes of the Closed Session of the December 12, 2013 Board of Directors Meeting

10. Reports

11. Pending Projects

CONTACT PERSON FOR INFORMATION: Information on the meeting may be obtained from Connie M. Downs at (202) 336-8438.

Dated: March 10, 2014.
Connie M. Downs,
Corporate Secretary, Overseas Private Investment Corporation.

[FR Doc. 2014-05515 Filed 3-10-14; 4:15 pm]

BILLING CODE 3210-01-P